DEPARTMENT OF HOMELAND SECURITY

U.S. Immigration and Customs Enforcement Bureau

[File No. 1653-0029]

Agency Information Collection Activities: Extension of a Currently Approved Information Collection; Comment Request

ACTION: 60-day notice of information collection under review; immigration user fee.

The Department of Homeland Security, U.S. Immigration and Customs Enforcement (USICE) submitted the following information collection request for review and clearance in accordance with the Paperwork Reduction Act of 1995. The information collection is published to obtain comments from the public and affected agencies. Comments are encouraged and will be accepted for sixty days until January 23, 2006.

Written comments and suggestions from the public and affected agencies concerning the collection of information should address one or more of the following four points:

(1) Evaluate whether the collection of information is necessary for the proper performance of the functions of the agency, including whether the information will have practical utility;

(2) Evaluate the accuracy of the agencies estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved collection.

(2) Title of the Form/Collection: Immigration User Fee.

(3) Agency form number, if any, and the applicable component of the Department of Homeland Security sponsoring the collection: No Agency Form Number (File No. OMB-1653-0029). U.S. ICE.

(4) Affected public who will be asked or required to respond, as well as a brief abstract: Primary: Businesses or other for profit: The information requested from commercial air carriers, commercial vessel operators, and tour operators is necessary for effective budgeting, financial management, monitoring, and auditing of user fee collections. No forms are required. Only data readily available from accounting records, necessary, to conduct daily business are required.

(5) An estimate of the total number of respondents and the amount of time estimated for an average respondent to respond: 25 responses at 15 minutes per response.

(6) An estimate of the total public burden (in hours) associated with the collection: 331 hours this includes 250 annual record keeping hours plus 81 annual reporting burden hours.

If you have comments, suggestions, or need a copy of the information collection, please contact Richard A. Sloan, Director, Regulatory Management Division, U.S. Citizenship and Immigration Services, 111 Massachusetts Avenue, NW., Washington, DC 20529; 202-272-8377; or Jonathon Cykman, USICE, Director, IT Policy and Planning, 801 I Street, NW., Suite 760, Washington, DC 20001, (202) 732-2048.

Dated: November 17, 2005.
Richard A. Sloan,
Director, Regulatory Management Division, U.S. Citizenship and Immigration Services.

[FR Doc. 05-23058 Filed 11-21-05; 8:45 am]

BILLING CODE 4410-10-M